DEPARTMENT OF LABOR

Employment and Training Administration

[TA-W-65,547]

Arvin Meritor, Mullins, SC; Notice of Termination of Investigation

Pursuant to Section 221 of the Trade Act of 1974, as amended, an investigation was initiated on March 10, 2009 in response to a worker petition filed by workers of Arvin Meritor, Mullins, South Carolina.

The petitioners have requested that the petition be withdrawn. Consequently, the investigation has been terminated.

Signed at Washington, DC, this 27th day of May 2009.
Elliott S. Kushner,
Certifying Officer, Division of Trade Adjustment Assistance.

[FR Doc. E9-15287 Filed 6-26-09; 8:45 am]

BILLING CODE 4510-FN-P